DEPARTMENT OF TRANSPORTATION

Federal Aviation Administration

14 CFR Part 39

[Docket No. FAA-2006-26045; Directorate Identifier 2006-NM-145-AD]

RIN 2120-AA64

Airworthiness Directives; Airbus Model A300 Airplanes

AGENCY: Federal Aviation Administration (FAA), Department of Transportation (DOT).

ACTION: Notice of proposed rulemaking (NPRM).

SUMMARY: The FAA proposes to supersede an existing airworthiness directive (AD) that applies to certain Airbus Model A300 B2 and B4 series airplanes. The existing AD currently requires modifying the wiring of the autopilot pitch torque limiter switch. This proposed AD would add repetitive operational tests of the autopilot disconnection upon pitch override, and related investigative/corrective actions if necessary. This proposed AD results from the determination that such operational tests are necessary following the modification. We are proposing this AD to prevent possible trim loss when the flightcrew tries to override the autopilot pitch control, which could result in uncontrolled flight of the airplane.

DATES: We must receive comments on this proposed AD by November 13, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-26045; Directorate Identifier 2006-NM-145-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On June 14, 2005, we issued AD 2005-13-33, amendment 39-14170 (70 FR 36833, June 27, 2005), for certain Airbus Model A300 B2 and B4 series airplanes. That AD requires modifying the wiring of the autopilot (AP) pitch torque limiter switch. That AD resulted from several reports of pitch trim disconnect caused by insufficient length in the wiring to the pitch torque limiter lever. We issued that AD to prevent possible trim loss when the flightcrew tries to override the autopilot pitch control, which could result in uncontrolled flight of the airplane.

Actions Since Existing AD Was Issued

Since we issued AD 2005-13-33, it has been determined that repetitive operational tests of the autopilot disconnection upon pitch override are necessary following the modification to ensure the reliability of AP disconnection by stick force.

Relevant Service Information

AD 2005-13-33 cites Airbus Service Bulletin A300-22-0117, dated September 7, 2004, as the appropriate source of service information for the modification. Airbus has since revised the service bulletin. Revision 01, dated April 20, 2005, and Revision 02, dated September 14, 2005, provide minor changes only.

Airbus has also issued Service Bulletin A300-22-0118, including Appendix 01, dated May 18, 2005. The service bulletin describes procedures for repetitive operational tests of the autopilot disconnection upon pitch override. Related investigative and corrective actions for discrepant results include inspecting for discrepancies (including chafing) of the wiring between the relay and the autopilot flight director logic monitor (AP/FD L/M) computer, replacing the relay with a new relay having the same part number, repairing the torque limiter lever or replacing it with a new one having the same part number, and repairing or replacing the wiring.

Accomplishing the actions specified in the service information is intended to adequately address the unsafe condition. The Direction Générale de l'Aviation Civile (DGAC), which is the airworthiness authority for France, mandated the service information and issued French airworthiness directive F-2005-107, dated July 6, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2005-13-33 and retain the requirements of that AD. This proposed AD would add repetitive operational tests of the AP disconnection upon pitch override, and related investigative/corrective actions if necessary.

Costs of Compliance

This proposed AD would affect about 29 airplanes of U.S. registry. The following table provides the estimated costs for U.S. operators to comply with this proposed AD.

Estimated Costs
Action | Work hours | Average labor rate per hour | Parts | Cost per airplane | Fleet cost
Modification | 8-11 | $80 | $1,700-$4,280 | $2,340-$5,160 | $67,860-$149,640.
Operational test | 4 | 80 | 0 | $320, per test cycle | $9,280, per test cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14170 (70 FR 36833, June 27, 2005) and adding the following new airworthiness directive (AD):

Airbus: Docket No. FAA-2006-26045; Directorate Identifier 2006-NM-145-AD.

Comments Due Date

(a) The FAA must receive comments on this AD action by November 13, 2006.

Affected ADs

(b) This AD supersedes AD 2005-13-33.

Applicability

(c) This AD applies to Airbus A300 aircraft, all certified models and all serial numbers, certificated in any category, except for:

(1) Airbus Model A300 B4-601, B4-603, B4-620, and B4-622 airplanes, A300 B4-605R and B4-622R airplanes, A300 F4-605R and F4-622R airplanes, and A300 C4-605R Variant F airplanes.

(2) Models A300B4-220, A300B4-203, and A300B2-203 in forward facing crew cockpit certified configuration.

Unsafe Condition

(d) This AD results from the determination that repetitive operational tests are necessary following incorporation of the wiring modification required by AD 2005-13-33. We are issuing this AD to prevent possible trim loss when the flightcrew tries to override the autopilot pitch control, which could result in uncontrolled flight of the airplane.

Compliance

(e) You are responsible for having the actions required by this AD performed within the compliance times specified, unless the actions have already been done.

Restatement of Requirements of AD 2005-13-33

Modification

(f) Within 20 months after August 1, 2005 (the effective date of AD 2005-13-33), modify the wiring of the autopilot pitch torque limiter switch, by doing all of the applicable actions specified in the Accomplishment Instructions of Airbus Service Bulletin A300-22-0117, dated September 7, 2004; Revision 01, dated April 20, 2005; or Revision 02, dated September 14, 2005. After the effective date of this AD, only Revision 02 may be used.

New Requirements of This AD

Repetitive Operational Tests

(g) At the applicable time specified in paragraph (g)(1) or (g)(2) of this AD: Do an operational test of the autopilot disconnection upon pitch override, and do all applicable related investigative and corrective actions. Do the actions in accordance with the Accomplishment Instructions of Airbus Service Bulletin A300-22-0118, excluding Appendix 01, dated May 18, 2005; except that this AD does not require a report of the inspection results. Do all applicable related investigative and corrective actions before further flight. Repeat the test thereafter at intervals not to exceed 2,000 flight hours.

(1) For airplanes modified before the effective date of this AD in accordance with Airbus Service Bulletin A300-22-0117, dated September 7, 2004: Do the initial test within 2,000 flight hours after the effective date of this AD.

(2) For airplanes modified in accordance with Airbus Service Bulletin A300-22-0117, Revision 01, dated April 20, 2005; or Revision 02, dated September 14, 2005: Do the initial test within 2,000 flight hours after the modification required by paragraph (f) of this AD, or within 2,000 flight hours after the effective date of this AD, whichever occurs later.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2005-13-33 are not approved as AMOCs with this AD.

Related Information

(i) French airworthiness directive F-2005-107, dated July 6, 2005, also addresses the subject of this AD.

Issued in Renton, Washington, on October 3, 2006.
Kalene C. Yanamura,
Acting Manager, Transport Airplane Directorate, Aircraft Certification Service.

[FR Doc. E6-16880 Filed 10-11-06; 8:45 am]

BILLING CODE 4910-13-P